DEPARTMENT OF COMMERCE

International Trade Administration

[A-533-843]

Certain Lined Paper Products From India: Notice of Partial Rescission of Antidumping Duty Administrative Review; 2014-2015

AGENCY: Enforcement and Compliance, International Trade Administration, Department of Commerce.

DATES: Effective Date: February 3, 2016.

FOR FURTHER INFORMATION CONTACT: George McMahon or Samuel Brummitt AD/CVD Operations, Office III, Enforcement and Compliance, International Trade Administration, U.S. Department of Commerce, 14th Street and Constitution Avenue NW., Washington, DC 20230; telephone: (202) 482-1167 or (202) 482-7851, respectively.

SUPPLEMENTARY INFORMATION:

Background

On September 1, 2015, the Department of Commerce (the Department) published a notice of opportunity to request an administrative review of the antidumping duty order on certain lined paper products from India.¹ Pursuant to timely requests from interested parties, the Department published in the Federal Register the notice of initiation of this antidumping duty administrative review with respect to the following companies for the period of review (POR) September 1, 2014, through August 31, 2015: Goldenpalm Manufacturers PVT Limited (Goldenpalm), Kokuyo Riddhi Paper Products Private Limited (Kokuyo), Lodha Offset Limited (Lodha), Magic International Pvt. Ltd. (Magic International), Marisa International, Navneet Education Ltd. (Navneet), Pioneer Stationery Pvt. Ltd. (Pioneer), SAB International, SGM Paper Products, and Super Impex.² On November 16, 2015, Super Impex timely withdrew its request for a review.³ On November 17, 2015, SAB International timely withdrew its request for a review.⁴

¹ See Antidumping or Countervailing Duty Order, Finding, or Suspended Investigation; Opportunity To Request Administrative Review, 80 FR 52741 (September 1, 2015).

² See Initiation of Antidumping and Countervailing Duty Administrative Reviews, 80 FR 69193 (November 9, 2015) (Initiation Notice).

³ See Letter from Super Impex to the Department, “Certain Lined Paper Products from India: Withdrawal of Request for Anti-dumping Duty Administrative Review of Super Impex,” dated November 16, 2015.

⁴ See Letter from SAB International to the Department, “Certain Lined Paper Products from India: Withdrawal of Request for Anti-dumping Duty Administrative Review of SAB International,” filed on November 17, 2015.

Partial Rescission of the 2014-2015 Administrative Review

Pursuant to 19 CFR 351.213(d)(1), the Secretary will rescind an administrative review, in whole or in part, if the party that requested a review withdraws the request within 90 days of the date of publication of the notice of initiation of the requested review. The Department initiated the instant review on November 9, 2015.⁵ Super Impex and SAB International withdrew their requests for a review on November 16, 2015, and November 17, 2015, respectively, which is within the 90-day deadline. No other party requested an administrative review of Super Impex or SAB International. Therefore, in accordance with 19 CFR 351.213(d)(1), we are rescinding this review of the antidumping duty order on certain lined paper products from India, in part, with respect to Super Impex and SAB International. The administrative review will continue with respect to Goldenpalm, Kokuyo, Lodha, Magic International, Marisa International, Navneet, Pioneer, and SGM Paper Products.

⁵ See Initiation Notice.

Assessment

The Department will instruct CBP to assess antidumping duties on all appropriate entries. For the companies for which this review is rescinded, Super Impex and SAB International, antidumping duties shall be assessed at rates equal to the cash deposit of estimated antidumping duties required at the time of entry, or withdrawal from warehouse, for consumption, during the period September 1, 2014, through August 31, 2015, in accordance with 19 CFR 351.212(c)(1)(i).

The Department intends to issue appropriate assessment instructions directly to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Department's presumption that reimbursement of antidumping and/or countervailing duties occurred and the subsequent assessment of doubled antidumping duties.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: January 28, 2016.
Christian Marsh,
Deputy Assistant Secretary for Antidumping and Countervailing Duty Operations.

[FR Doc. 2016-02003 Filed 2-2-16; 8:45 am]

BILLING CODE 3510-DS-P